FEDERAL COMMUNICATIONS COMMISSION

47 CFR Part 73

[DA 06-954; MB Docket No. 05-316; RM-11294]

Radio Broadcasting Services; Arnold and City of Angels, CA

AGENCY: Federal Communications Commission.

ACTION: Final rule.

SUMMARY: In response to a Notice of Proposed Rule Making, this Report and Order allots Channel 240A, FM Station KBYN, Arnold, California from Arnold to City of Angels, California, and modifies Station KBYN's license accordingly. The coordinates for Channel 240A at City of Angels, California are 38-05-32 NL and 120-27-22 WL, with a site restriction of 8.6 kilometers (5.3 miles) east of City of Angels.

DATES: Effective June 19, 2006.

ADDRESSES: Federal Communications Commission; 445 12th Street, SW., Washington, DC 20554.

FOR FURTHER INFORMATION CONTACT: R. Barthen Gorman, Media Bureau, (202) 418-2180.

SUPPLEMENTARY INFORMATION: This is a synopsis of the Commission's Report and Order, MB Docket No. 05-316, adopted May 3, 2006 and released May 5, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

For reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202 (b), the Table of FM Allotments under California, is amended by removing Channel 240A at Arnold, and adding City of Angels, Channel 240A.

Federal Communications Commission.
John A. Karousos,
Assistant Chief, Audio Division, Media Bureau.

[FR Doc. E6-8156 Filed 5-30-06; 8:45 am]

BILLING CODE 6712-01-P